OFFICE OF PERSONNEL MANAGEMENT

Submission for Review: OMB Control No. 3206-NEW

AGENCY: Office of Personnel Management.

ACTION: 60-Day notice and request for comments.

SUMMARY: The Office of Personnel Management (OPM) offers the general public and other Federal agencies the opportunity to comment on a new information collection request (ICR) 3206-NEW, USA Hire Assessment Satisfaction Survey, Form USAH-1.

DATES: Comments are encouraged and will be accepted until July 3, 2023. This process is conducted in accordance with 5 CFR 1320.1.

ADDRESSES: Interested persons are invited to submit written comments on the proposed information collection by one of the following means:

Federal Rulemaking Portal: http://www.regulations.gov. All submissions received must include the agency name and docket number for this Federal Register document. The general policy for comments and other submissions from members of the public is to make these submissions available for public viewing on the internet at http://www.regulations.gov as they are received without change, including any personal identifiers or contact information.

FOR FURTHER INFORMATION CONTACT: A copy of this information collection request, with applicable supporting documentation, may be obtained by contacting Jeffrey Cain at jeffrey.cain@opm.gov or 202-936-2863. Please put “3206_New” in the subject line of the email.

SUPPLEMENTARY INFORMATION: As required by the Paperwork Reduction Act of 1995, (Pub. L. 104-13, 44 U.S.C. chapter 35) as amended by the Clinger-Cohen Act (Pub. L. 104-106), OPM is soliciting comments for this collection. ICR 3206-NEW Assessment Satisfaction Survey, Form USAH-1 is the Federal Government's centralized source for USA Hire online assessment process feedback and reflects the minimal critical elements collected across the Federal Government to begin an application for information collection under the authority of sections 1104,1302, 3301, 3304, 3320, 3361, 3393, and 3394 of Title 5, United States Code. This is a new information collection request for OPM's USA Hire Program. USA Hire seeks to use the “USA Hire Assessment Satisfaction Survey” to collect feedback on the USA Hire online assessment process.

This effort will help enable USA Hire to continually implement improvements to the assessment process for applicants and agency stakeholders. As this is a new collection, we invite comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: HR Solutions/Federal Staffing Center, Office of Personnel Management.

Title: USA Hire Assessment Satisfaction Survey.

OMB Number: 3206-NEW.

Frequency: Annually.

Affected Public: Individuals.

Number of Respondents: 200,000.

Estimated Time per Respondent: 1 Minute.

Total Burden Hours: 3,400.

U.S. Office of Personnel Management.
Stephen Hickman,
Federal Register Liaison.

[FR Doc. 2023-09337 Filed 5-2-23; 8:45 am]

BILLING CODE 6325-43-P